DEPARTMENT OF JUSTICE

Antitrust Division

Notice Pursuant to the National Cooperative Research and Production Act of 1993—Resilient Infrastructure + Secure Energy Consortium

Notice is hereby given that, on July 26, 2022, pursuant to Section 6(a) of the National Cooperative Research and Production Act of 1993, 15 U.S.C. 4301 et seq. (“the Act”), the Resilient Infrastructure + Secure Energy Consortium (“RISE”) has filed written notifications simultaneously with the Attorney General and the Federal Trade Commission disclosing changes in its membership. The notifications were filed for the purpose of extending the Act's provisions limiting the recovery of antitrust plaintiffs to actual damages under specified circumstances. Specifically, Advanced Biomimetic Sensors, Inc., Bethesda, MD; Base Studio, Fayetteville, NC; Bloomberg Center for Public Innovation at Johns Hopkins, Baltimore, MD; Bostonia Partners LLC, Boston, MA; Canetia Analytics, Inc., Somerville, MA; Charge Collective, Los Angeles, CA; Cleantech San Diego, San Diego, CA; Current Lab, Portsmouth, RI; EV Charging LLC, West Bloomfield Township, MI; Flex Power Control, Woodland Hills, CA; Hudson Fisonic Corporation, New York, NY; iCrypto, Inc., Santa Clara, CA; Internet of Everything Corp., San Francisco, CA; InventWood, College Park, MD; KMEA, San Diego, CA; L J Manz Consulting, San Diego, CA; Minerva Lithium LLC, Greensboro, NC; necoTECH, Delaware, OH; POLARes, Virginia Beach, VA; Powerit, Seattle, WA; Quantum Technical Associates LLC, Manassas, VA; Shasteen & Percy, PA, Tampa, FL; SMI, Inc., Washington, DC; State of Place, Inc., Natick, MA; Swan Island Networks, Portland, OR; Swift Rails, Inc., Lancaster, NY; Terra Sound, Dublin, OH; Tubular Network, Austin, TX; and ULC Technologies, Hauppauge, NY, have been added as parties to this venture.

No other changes have been made in either the membership or planned activity of the group research project. Membership in this group research project remains open, and RISE intends to file additional written notifications disclosing all changes in membership.

On July 2, 2021, RISE filed its original notification pursuant to Section 6(a) of the Act. The Department of Justice published a notice in the Federal Register pursuant to Section 6(b) of the Act on August 23, 2021 (86 FR 47155).

The last notification was filed with the Department on April 1, 2022. A notice was published in the Federal Register pursuant to Section 6(b) of the Act on May 12,2022 (87 FR 29183).

Suzanne Morris,
Chief, Premerger and Division Statistics, Antitrust Division.

[FR Doc. 2022-18687 Filed 8-29-22; 8:45 am]

BILLING CODE P